FEDERAL COMMUNICATIONS COMMISSION

[WC Docket No. 20-89; DA No. 20-1504; FRS 17363]

Wireline Competition Bureau and Office of The Managing Director Set July 31, 2021 Invoicing Deadline for Covid-19 Telehealth Program and Provide Post-Program Guidance

AGENCY: Federal Communications Commission.

ACTION: Notice.

SUMMARY: In this document, the Wireline Competition Bureau (Bureau) establishes an invoicing deadline for the COVID-19 Telehealth Program and provide COVID-19 Telehealth Program funding Awardees with additional information on the post-program report.

DATES: July 31, 2021.

ADDRESSES: You may submit the post-program report template, identified by WC Docket No. 20-89, by the following method:

• Comments must be filed electronically using the Federal Communications Commission's Electronic Comment Filing System at: http://fjallfoss.fcc.gov/ecfs2/.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020), https://www.fcc.gov/document/fcc-closes-headquarters-open-window-and-changes-hand-delivery-policy.

• People with Disabilities. To request materials in accessible formats for people with disabilities (braille, large print, electronic files, audio format), send an email to fcc504@fcc.gov or call the Consumer & Governmental Affairs Bureau at 202-418-0530 (voice), 202-418-0432 (try).

For detailed instructions for submitting the template and additional information on the rulemaking process, see the SUPPLEMENTARY INFORMATION section of this document.

FOR FURTHER INFORMATION CONTACT: Stephanie Minnock, Assistant Division Chief, Telecommunications Access Policy Division, Wireline Competition Bureau, stephanie.minnock@fcc.gov or 202-418-7400 or TTY: 202-418-0484.

SUPPLEMENTARY INFORMATION: This is a synopsis of the Commission's Public Notice in WC Docket No. 20-89; DA 20-1504 released December 18, 2020. Due to the COVID-19 pandemic, the Commission's headquarters will be closed to the general public until further notice. The full text of this document is available at the following internet address: https://docs.fcc.gov/public/attachments/DA-20-1504A1.pdf. For more information about the COVID-19 Telehealth Program, please refer to the Commission's website at www.fcc.gov/covid19telehealth.

I. Introduction

The Wireline Competition Bureau (WCB) and the Office of the Managing Director (OMD) establishes a July 31, 2021, invoicing deadline for the COVID-19 Telehealth Program. Also, COVID-19 Telehealth Program funding awardees (Awardees) are provided with additional information on the post-program report, which must be filed with the Commission no later than January 31, 2022. Additionally, Awardees are reminded of the program's recordkeeping and auditing requirements.

As part of the Coronavirus Aid, Relief, and Economic Security Act, Congress appropriated $200 million to the Federal Communications Commission (Commission) “to support efforts of health care providers to address coronavirus by providing telecommunications services, information services, and devices necessary to enable the provision of telehealth services.” On April 2, 2020, the Commission established the COVID-19 Telehealth Program to administer the $200 million in congressionally appropriated funding. The Commission issued funding awards for 539 applications from April 16, 2020 through July 8, 2020, when the appropriated $200 million budget was exhausted. WCB set an initial deadline of September 30, 2020 for Awardees to purchase eligible connected devices and implement eligible services, but extended that deadline to December 31, 2020, after receiving multiple requests from Awardees that needed more time to purchase connected devices and/or implement services or that were experiencing delays.

II. Discussion

A. Invoicing Deadline. WCB and OMD developed a process for reviewing Awardees' monthly invoicing forms and supporting documentation. To further facilitate the administration of the COVID-19 Telehealth Program, the invoicing filing deadline is set for July 31, 2021. Awardees have until December 31, 2020 to purchase eligible connected devices and implement eligible services, and can receive up to six months of support for eligible services with monthly recurring charges. An invoicing deadline is necessary for efficient administration of the COVID-19 Telehealth Program and provides certainty to Awardees. Thus, the deadline of seven months after the purchase/implementation deadline of December 31, 2020 provides a reasonable timeframe for Awardees to receive their eligible services and connected devices and timely file their requests for reimbursement along with supporting documentation to the Commission. Accordingly, Awardees must file their requests for reimbursement for the cost of eligible connected devices and/or telecommunications or information services on or before July 31, 2021, in order to receive reimbursement for eligible expenses under the COVID-19 Telehealth Program.

B. Post-Program Report. As part of the Report and Order, FCC 20-44, the Commission stated that Awardees should provide a report to the Commission on the effectiveness of the COVID-19 Telehealth Program funding no later than six months after the conclusion of the COVID-19 Telehealth Program. Awardees, therefore, should submit their post-program reports by January 31, 2022—six months after the invoicing deadline. These reports will provide the Commission with important feedback on whether and how the COVID-19 Telehealth Program funding impacted health outcomes, patient treatment, health care facility administration, and any other relevant aspects of Awardees' response to COVID-19. Appended in the Public Notice is a post-program report template, which contains a list of questions that Awardees should respond to when developing their post-program report. Awardees are encouraged to provide any additional feedback as part of the post-program report. Once completed, Awardees should file their completed report(s) in WC Docket No. 20-89 in the Commission's electronic comment filing system, available at https://www.fcc.gov/ecfs/.

C. Program Rules and Reminders. As a reminder, Awardees must maintain records related to their participation in the COVID-19 Telehealth Program for at least three years from the last date of service under this program to demonstrate their compliance with program requirements. Awardees must present any records related to their participation in the COVID-19 Telehealth Program to the Commission or its delegates upon request. Awardees may also be subject to compliance audits to ensure compliance with rules and requirements for the COVID-19 Telehealth Program. If audited, Awardees must provide documentation related to their participation in the COVID-19 Telehealth Program.

Federal Communications Commission.

Cheryl L. Callahan, Assistant Chief,
Telecommunications Access Policy Division, Wireline Competition Bureau.

[FR Doc. 2021-00315 Filed 1-8-21; 8:45 am]

BILLING CODE 6712-01-P